DEPARTMENT OF ENERGY

Federal Energy Regulatory Commission

[Docket Nos. EG08-87-000, EG08-88-000, EG08-89-000, EG08-90-000, EG08-91-000]

Crystal Lake Wind, LLC, Crystal Lake Wind II, LLC, Osceola Windpower II, LLC, Story Wind, LLC, Noble Great Plains Windpark, LLC; Notice of Effectiveness of Exempt Wholesale Generator Status

November 19, 2008.

Take notice that during the month of October 2008, the status of the above-captioned entities as Exempt Wholesale Generators Companies became effective by operation of the Commission's regulations 18 CFR 366.7(a).

Kimberly D. Bose,
Secretary.

[FR Doc. E8-27919 Filed 11-24-08; 8:45 am]

BILLING CODE 6717-01-P